DEPARTMENT OF HEALTH AND HUMAN SERVICES

National Institutes of Health

National Institute of Diabetes and Digestive and Kidney Diseases; Amended Notice of Meeting

Notice is hereby given of a change in the meeting of the National Institute of Diabetes and Digestive and Kidney Diseases Special Emphasis Panel, January 27, 2023, 01:00 p.m. to January 27, 2023, 03:00 p.m., National Institutes of Health, Democracy II, 6707 Democracy Blvd., Bethesda, MD, 20892 which was published in the Federal Register on December 14, 2022, 321059.

The meeting notice is amended to change the date of the meeting from January 27, 2023, to February 3, 2023. The time of the meeting will remain 1:00 p.m. to 3:00 p.m. The meeting is closed to the public.

Dated: January 25, 2023,
Miguelina Perez,
Program Analyst, Office of Federal Advisory Committee Policy.

[FR Doc. 2023-01866 Filed 1-30-23; 8:45 am]

BILLING CODE 4140-01-P